FEDERAL DEPOSIT INSURANCE CORPORATION

[OMB No. 3064-0092;-0169]

Agency Information Collection Activities: Proposed Collection Renewal; Comment Request

AGENCY: Federal Deposit Insurance Corporation.

ACTION: Notice and request for comment.

SUMMARY: The Federal Deposit Insurance Corporation (FDIC), as part of its obligations under the Paperwork Reduction Act of 1995 (PRA), invites the general public and other Federal agencies to take this opportunity to comment on the renewal of the existing information collection described below (OMB Control No. 3064-0092 and -0169).

DATES: Comments must be submitted on or before October 10, 2025.

ADDRESSES: Interested parties are invited to submit written comments to the FDIC by any of the following methods:

• Agency website: https://www.fdic.gov/resources/regulations/federal-register-publications/.

• Email: comments@fdic.gov. Include the name and number of the collection in the subject line of the message.

• Mail: Robert Meiers, Regulatory Counsel, MB-3013, Federal Deposit Insurance Corporation, 550 17th Street NW, Washington, DC 20429.

• Hand Delivery: Comments may be hand-delivered to the guard station at the rear of the 17th Street NW building (located on F Street NW), on business days between 7 a.m. and 5 p.m.

All comments should refer to the relevant OMB control number. A copy of the comments may also be submitted to the OMB desk officer for the FDIC: Office of Information and Regulatory Affairs, Office of Management and Budget, New Executive Office Building, Washington, DC 20503.

FOR FURTHER INFORMATION CONTACT: Robert Meiers, Regulatory Attorney, Romeiers@fdic.gov, MB-3013, Federal Deposit Insurance Corporation, 550 17th Street NW, Washington, DC 20429.

SUPPLEMENTARY INFORMATION:

Proposal to renew the following currently approved collection of information:

1. Title: Community Reinvestment Act.

OMB Number: 3064-0092.

Form Number: None.

Affected Public: Insured State non-member banks and State savings associations.

Burden Estimate:

Summary of Estimated Annual Burden
[OMB No. 3064-0092]
Information Collection (IC) (obligation to respond) | Type of burden (frequency of response) (annual) | Number of respondents | Number of responses per respondent | Average time per response (HH:MM) | Annual burden (hours)
1. Request for Designation as a Wholesale or Limited Purpose Bank (Required To Obtain or Retain Benefits) | Reporting | 1 | 1 | 04:00 | 4
2. Strategic Plan (Voluntary) | Reporting | 10 | 1 | 400:00 | 4,000
3. Small Business/Small Farm Loan Data (Mandatory) | Reporting | 356 | 1 | 08:00 | 2,848
4. Community Development Loan Data (Mandatory) | Reporting | 356 | 1 | 13:00 | 4,628
5. Home Mortgage Loans (Mandatory) | Reporting | 310 | 1 | 253:00 | 78,430
6. Data on Affiliate Lending (Required To Obtain or Retain Benefits) | Reporting | 304 | 1 | 38:00 | 11,552
7. Data on Lending by a Consortium or Third Party (Required To Obtain or Retain Benefits) | Reporting | 115 | 1 | 17:00 | 1,955
8. Assessment Area Data (Mandatory) | Reporting | 313 | 1 | 02:00 | 626
9. Small Business/Small Farm Loan Register (Mandatory) | Recordkeeping | 356 | 1 | 219:00 | 77,964
10. Optional Consumer Loan Data (Voluntary) | Recordkeeping | 10 | 1 | 326:00 | 3,260
11. Other Loan Data (Voluntary) | Recordkeeping | 56 | 1 | 25:00 | 1,400
12. Content and Availability of Public File (Mandatory) | Third Party Disclosure | 2,854 | 1 | 10:00 | 28,540
Total Annual Burden (Hours) |  |  |  |  | 215,207
Source: FDIC.

General Description of Collection: The Community Reinvestment Act regulation requires the FDIC to assess the record of banks and thrifts in helping meet the credit needs of their entire communities, including low- and moderate-income neighborhoods, consistent with safe and sound operations, and to take this record into account in evaluating applications for mergers, branches, and certain other corporate activities. The total estimated annual burden is 215,207 hours which is a reduction of 16,375 hours from the 2022 submission. This reduction is due to the decrease in the number of FDIC-supervised banks and the changes in methodology for ICs 5, 8, and 11 that resulted in decreased respondent counts for each of ICs 5, 8, and 11.

2. Title: Qualifications for Failed Bank Acquisitions.

OMB Number: 3064-0169.

Form Number: None.

Affected Public: Insured State non-member banks and State savings associations.

Burden Estimate:

Summary of Estimated Annual Burden
[OMB No. 3064-0169]
Information Collection (IC) (obligation to respond) | Type of burden (frequency of response) | Number of respondents | Number of responses per respondent | Average time per response (HH:MM) | Annual burden (hours)
1. Section D—Investor Reports on Affiliates (Required to Obtain Benefit) | Third-Party Disclosure (Annual) | 3 | 12 | 2:00 | 72
2. Section E—Maintenance of Business Books and Records (Required to Obtain Benefit) | Recordkeeping (Annual) | 3 | 4 | 2:00 | 24
3. Section I—Disclosures Regarding Investors and Entities in Ownership Chain (Required to Obtain Benefit) | Reporting (On occasion) | 1 | 1 | 4:00 | 4
Total Annual Burden (Hours) |  |  |  |  | 100
Source: FDIC.

General Description of Collection: The FDIC's policy statement on Qualifications for Failed Bank Acquisitions provides guidance to private capital investors interested in acquiring or investing in failed insured depository institutions regarding the terms and conditions for such investments or acquisitions. The information collected pursuant to the policy statement allows the FDIC to evaluate, among other things, whether such investors (and their related interests) could negatively impact the Deposit Insurance Fund, increase resolution costs, or operate in a manner that conflict with statutory safety and soundness principles and compliance requirements. There is no change in the method or substance of the collection. The estimated burden remains unchanged from the previous submission.

Request for Comment

Comments are invited on (a) whether the collections of information are necessary for the proper performance of the FDIC's functions, including whether the information has practical utility; (b) the accuracy of the estimates of the burden of the information collections, including the validity of the methodology and assumptions used; (c) ways to enhance the quality, utility, and clarity of the information to be collected; and (d) ways to minimize the burden of the collections of information on respondents, including through the use of automated collection techniques or other forms of information technology. All comments will become a matter of public record.

Federal Deposit Insurance Corporation.
Dated at Washington, DC, on August 7, 2025.
Jennifer M. Jones,
Deputy Executive Secretary.

[FR Doc. 2025-15205 Filed 8-8-25; 8:45 am]

BILLING CODE 6714-01-P